DEPARTMENT OF ENERGY

Office of Fossil Energy

[FE Docket Nos. 00-29-LNG, 01-40-NG, 01-39-NG, 01-41-NG, 01-42-NG, 01-44-LNG, 00-77-NG]

Tractebel LNG North America Service Corporation (Formerly Cabot Energy Service Corporation), Reliant Energy Services, Inc., Conoco, Inc., Husky Gas Marketing, Inc., Portland General Electric Company, Itochu International, Inc., Hess Energy Services Company, LLC; Orders Granting, Amending and Vacating Authority To Import and Export Natural Gas, Including Liquefied Natural Gas

AGENCY: Office of Fossil Energy, DOE.

ACTION: Notice of orders.

SUMMARY: The Office of Fossil Energy (FE) of the Department of Energy gives notice that during August 2001, it issued Orders granting, amending and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW, Washington, DC 20585, (202) 586-9478. The Docket Room is open between the hours of 8:00 a.m. and 4:30 p.m., Monday through Friday, except Federal holidays.

Issued in Washington, DC, on September 12, 2001.
Thomas W. Dukes,
Acting Manager, Natural Gas Regulation, Office of Natural Gas & Petroleum, Import & Export Activities, Office of Fossil Energy.

Appendix—Orders Granting, Amending and Vacating Import/Export Authorizations

Order | Date issued | Importer/Exporter FE Docket No. | Import volume | Export volume | Comments
1590-A | 8-6-01 | Tractebel LNG North America Service Corporation (Formerly Cabot Energy Service Corporation), 00-29-LNG |  |  | Name change.
1700 | 8-6-01 | Reliant Energy Services, Inc., 01-40-NG | 292 Bcf | 292 Bcf | Import a combined total from Canada and Mexico, and export a combined total to Canada and Mexico over a two-year term beginning on first delivery after September 10, 2001.
1701 | 8-7-01 | Conoco Inc., 01-39-NG | 100 Bcf |  | Import and export a combined total from and to Canada and Mexico, beginning on August 27, 2001, and extending through August 26, 2003.
1702 | 8-10-01 | Huskey Gas Marketing, Inc., 01-41-NG | 250 Bcf |  | Import and export a combined total from and to Canada beginning on August 10, 2001, and extending through August 9, 2003. Vacates Order 1539.
1704 | 8-15-01 | Portland General Electric Company, 01-42-NG | 90 Bcf |  | Import from Canada beginning on November 3, 2001, and extending through November 2, 2003.
1705 | 8-29-01 | ITOCHU International Inc., 01-44-LNG | 2.4 Tcf |  | Import LNG from various sources over a two-year term beginning on the date of first delivery.
1649-A | 8-30-01 | Hess Energy Services Company, LLC, 00-77-NG |  |  | Order vacating blanket authority.

[FR Doc. 01-23425 Filed 9-19-01; 8:45 am]

BILLING CODE 6450-01-P